NUCLEAR REGULATORY COMMISSION

[NRC-2020-0262]

Proposed Evaluation Policy Statement

AGENCY: Nuclear Regulatory Commission.

ACTION: Request for comment.

SUMMARY: The U.S. Nuclear Regulatory Commission (NRC) is requesting public comment on this proposed Evaluation Policy Statement that presents the standards that will govern the NRC's planning, conduct, and use of program evaluations. The policy statement is intended to provide agency personnel and stakeholders with a clear understanding of the expectations related to the NRC's evaluation standards that include rigor, relevance and utility, transparency, collaboration, independence and objectivity, and ethics.

DATES: Submit comments by January 7, 2021. Comments received after this date will be considered if it is practical to do so, but the Commission is able to ensure consideration only for comments received before this date.

ADDRESSES: You may submit comments by any of the following methods:

• Federal Rulemaking Website: Go to https://www.regulations.gov and search for Docket ID NRC-2020-0262. Address questions about NRC dockets to Dawn Forder; telephone: 301-415-3407; email: Dawn.Forder@nrc.gov. For technical questions contact the individual listed in the FOR FURTHER INFORMATION CONTACT section of this document.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Matthew Meyer, Office of the Executive Director for Operations, U.S. Nuclear Regulatory Commission, Washington DC 20555-0001, telephone: 301-415-6198, email: Matthew.Meyer@nrc.gov.

SUPPLEMENTARY INFORMATION:

I. Obtaining Information and Submitting Comments

A. Obtaining Information

Please refer to Docket ID NRC-2020-0262 when contacting the NRC about the availability of information for this action. You may obtain publicly-available information related to this action by any of the following methods:

• Federal Rulemaking Website: Go to https://www.regulations.gov and search for Docket ID NRC-2020-0262.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov. The proposed Evaluation Policy Statement is available in ADAMS under Accession number ML20268A811.

• Attention: The Public Document Room (PDR), where you may examine and order copies of public documents is currently closed. You may submit your request to the PDR via email at PDR.Resource@nrc.gov or call 1-800-397-4209 between 8:00 a.m. and 4:00 p.m. (EST), Monday through Friday, except Federal holidays.

B. Submitting Comments

Please include Docket ID NRC-2020-0262 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, you should inform those persons not to include identifying or contact information that they do not want to be publicly disclosed in their comment submission. Your request should state that the NRC does not routinely edit comment submissions to remove such information before making the comment submissions available to the public or entering the comment into ADAMS.

II. Background

The Foundations for Evidence-Based Policymaking Act of 2018 (“Evidence Act”) became law on January 14, 2019 (Pub. L. 115-435), to enhance evidence-building activities, make data more accessible, and strengthen privacy protections.¹ The Evidence Act requires each agency to name an Evaluation Officer. At the NRC the Director of the Office of Nuclear Regulatory Research holds this position and must “establish and implement an agency evaluation policy” to fulfill a primary function of this position.² The agency evaluation policy “should guide the agency's activities throughout the evaluation lifecycle.” ³ Evaluation activities include “developing and coordinating multi-year Learning Agendas, establishing Annual Evaluation Plans, planning and managing or conducting specific evaluations, summarizing evaluation findings for particular programs or policies, supporting other offices within an agency to interpret evaluation findings, and bringing evaluation-related evidence to bear in decision-making.” ⁴ In directing these activities, “the Evidence Act creates a new paradigm by calling on agencies to significantly rethink how they currently plan and organize evidence building, data management, and data access functions to ensure an integrated and direct connection to data and evidence needs.” ⁵

¹ Public Law 115-435, 132 Stat 5529 (2019).

² 5 U.S.C. 313(d)(3).

³ Office of Management and Budget, M-20-12, “Phase 4 Implementation of the Foundations for Evidence-Based Policymaking Act of 2018: Program Evaluation Standards and Practices,” Appendix C (March 10, 2020) (M-20-12).

⁴ Id. at Appendix A.

⁵ Office of Management and Budget, M-19-23, “Phase 1 Implementation of the Foundations for Evidence-Based Policymaking Act of 2018: Learning Agendas, Personnel, and Planning Guidance,” 2 (July 10, 2019).

The Office of Management and Budget (OMB) has provided guidance to agencies on establishing an agency evaluation policy based on “approaches that Federal agencies have found useful.” ⁶ This guidance includes “[e]nsuring that the agency evaluation policy incorporates the evaluation standards” recommended by OMB.⁷ OMB developed these evaluation standards through an interagency council that “reviewed an extensive list of source documents to identify widely accepted standards for evaluation.” ⁸ The interagency council identified the following evaluation standards: relevance and utility, rigor, independence and objectivity, transparency, and ethics.⁹

⁶ M-20-12, Appendix C.

⁷ Id.

⁸ Id. at 2.

⁹ Id. at 3-5.

Historically, the NRC has relied on high-quality evidence for its environmental and safety evaluations of civilian applications to utilize nuclear technologies.¹⁰ Frequently, the agency has obtained such evidence from external entities or through its own capacity, largely centered in the Office of Nuclear Regulatory Research.¹¹ In undertaking these activities, the NRC has been guided by its own Principles of Good Regulation: Independence, efficiency, clarity, reliability, and openness.¹²

¹⁰ Nuclear Regulatory Commission, NUREG-1350, 2019-2020 Information Digest, at 4-5 (August, 2019).

¹¹ Id. at 10.

¹² Id. at 3.

In recent years the agency has begun evidence-building activities to support licensing new or novel nuclear technologies, including advanced, non-light water reactor designs; accident tolerant nuclear fuel; and digital instrumentation and controls.¹³ Additionally, the NRC has increasingly sought to rely on evidence-based metrics to improve internal agency performance including budgeting and financial management.¹⁴ To develop the following evaluation policy statement, the NRC sought to enhance its existing evidence-building activities through the activities directed in the Evidence Act. The NRC envisions that this approach will strengthen the agency's oversight of existing uses of nuclear technology, enhance the agency's readiness to license and regulate new and novel nuclear technologies, and further the NRC's ongoing efforts to improve its internal processes.

¹³ Id. at 4.

¹⁴ Id. at 7.

III. Proposed Evaluation Policy Statement

The purpose of this Evaluation Policy Statement is to present the standards that will govern the NRC's planning and conduct of program evaluations ¹⁵ (evaluations). This policy statement is required by the Foundations for Evidence-Based Policymaking Act of 2018 and is a commitment to using evidence and scientific methods when conducting evaluations to make informed decisions. The NRC is a learning and evidence-based organization, with a culture of continuous improvement. The NRC's evaluations are used to make informed decisions, are based on objective, technical assessments of available information and documented with an explicitly stated rationale. Furthermore, the NRC commits to implementing evaluation standards of rigor; relevance and utility; transparency; collaboration; independence and objectivity; and ethics in the conduct of its evaluations. This policy statement presents the NRC's evaluation standards.

¹⁵ The Evidence Act defines “evaluation” as “an assessment using systematic data collection and analysis of one or more programs, policies, and organizations intended to assess their effectiveness and efficiency” (5 U.S.C. 311(3)). Evaluation can look beyond the program, policy, or organizational level to include assessment of projects or interventions within a program.

The Commission, as a collegial body, formulates policies, develops regulations governing nuclear reactor and nuclear material safety, issues orders to licensees, and adjudicates legal matters. The collegial decision-making process results in actions reflecting the collective judgment of a group rather than an individual, aided by professional and administrative staff and advisory committees, such as the Advisory Committee on Reactor Safeguards. Strict requirements govern the admission and consideration of “evidence” when the Commission acts in its adjudicatory capacity. This policy is intended to apply to the NRC's non-adjudicatory functions.¹⁶

¹⁶ This policy does not apply to the admission and consideration of evidence when the Commission acts in its adjudicatory capacity. The NRC's rules of practice and procedure in 10 CFR part 2 govern that process.

The NRC's Principles of Good Regulation, which include independence, efficiency, clarity, reliability, and openness, have guided the agency's regulatory activities and decisions using evidence and scientific methods. The principles focus on meeting the agency's important safety and security mission while appropriately considering the interests of stakeholders, including licensees; State, local, and Tribal governments; nongovernmental organizations; and the public. The agency's openness principle explicitly recognizes that the public must be informed about and have an opportunity to participate in the regulatory process.

Evidence building and evaluation are used to inform agency activities and actions, such as licensing, oversight, budgeting, program improvement, accountability, management, rulemaking, guidance development, and policy development. The emphasis on evidence is meant to support innovation, improvement, and learning. The NRC uses many types of evidence, including evaluations. Other evidence types include, but are not limited to, descriptive studies, performance measurements, financial and cost data, and program administrative data. The NRC carries out evidence-building and evaluation activities to (1) identify, evaluate, and resolve safety issues; (2) ensure that an independent technical basis exists to review licensee submittals; (3) evaluate operating experience and results of risk assessments for safety implications; and (4) support the development and use of risk-informed regulatory approaches.

Evaluation Standards

The NRC staff will use the following evaluation standards when conducting evaluations.

1. Rigor—The NRC is committed to using rigorous evaluation methods by qualified evaluators with relevant education, skills, and experience to ensure evaluations are appropriate and feasible within statutory, budgetary, and other constraints.

Rigorous evaluations require inferences about cause and effect to be well founded (internal validity); clarity about the populations, settings, or circumstances to which results can be generalized (external validity); and the use of measures that accurately capture the intended information (measurement reliability and validity). The NRC's evaluations are conducted by qualified staff with relevant education, skills, and experience for the methods undertaken. The NRC's evaluations use appropriate designs and methods that adhere to widely accepted scientific principles to answer key questions while balancing goals, scale, timeline, feasibility, and available resources. Additionally, the NRC's Information Quality Program ¹⁷ ensures that all information relied on by the NRC is subject to rigorous quality standards.

¹⁷ Management Directive 3.17, “Information Quality Program,” ensures that peer review is conducted on all influential scientific information and highly influential scientific assessment that the agency intends to disseminate.

2. Relevance and Utility—The NRC will ensure that evaluations are relevant and provide useful findings to inform agency activities and actions and stakeholders.

The NRC performs evaluations to examine questions of importance and serve the information needs of stakeholders. The NRC's evaluations present findings that are clear, concise, actionable, and available within a timeline that is appropriate to the questions under consideration. The NRC's evaluation priorities consider legislative requirements; the NRC's strategic safety and security goals, objectives, and strategies; and the interests and views of stakeholders.

3. Transparency—The NRC is committed to conducting evaluations in an open and transparent manner, which keeps stakeholders informed of the agency's evaluation activities.

NRC activities will be conducted openly and the public must be informed about and have an opportunity to participate in the NRC's regulatory process. As a regulator, the NRC will listen to, respect, and analyze different views from stakeholders. The NRC will also ensure open channels of communication are maintained between the NRC and stakeholders, including Congress, other government agencies, licensees, nongovernmental organizations, individual members of the public, and international and domestic nuclear communities. The NRC takes reasonable efforts to make all information, including information about the NRC's evaluations (including their purpose, objectives, design, findings, and evaluation methods), broadly available and accessible. The NRC releases public evaluation findings in a timely manner and archives the evaluation data for secondary use by stakeholders, as appropriate.

4. Collaboration—The NRC is committed to working collaboratively when conducting evaluations and draws on the expertise of subject matter experts to ensure diversity in perspectives.

The NRC fosters a collaborative work environment that encourages diverse views, alternative approaches, critical thinking, creative problem solving, unbiased evaluations, and honest feedback. The NRC emphasizes trust, respect, and open communication to promote a positive work environment that maximizes the potential of all individuals, which improves evidence building and evaluation activities. A collaborative environment leverages expertise from subject matter experts and enables peer reviews to ensure rigorous evaluations. The NRC also conducts research and collaborates with organizations that develop consensus standards to improve data and methods used in risk analysis. The NRC collaborates with national laboratories, other Federal agencies, universities, and international organizations.

5. Independence and Objectivity—As an independent Federal agency, the NRC is committed to conducting evaluations that are independent and based on objective assessments of all relevant information.

The NRC was established as an independent agency to regulate civilian uses of radioactive material. The NRC's evaluations will be independent and objective to maintain credibility. The implementation of evaluation activities, including the selection and function of the evaluators, should be appropriately insulated from factors that may affect their objectivity, impartiality, and professional judgment. Evaluations are inclusive and seek diverse participation from stakeholders in setting evaluation priorities, identifying evaluation questions, and assessing the implications of findings. The NRC strives for objectivity in the planning and conduct of evaluations.

6. Ethics—The NRC is committed to conducting evaluations that adhere to Government-wide ethics standards to protect the public and maintain public trust.

The NRC's evaluations comply with relevant legal requirements and are conducted in a manner that is free from conflicts of interest, undue influence, and the appearance of bias and that safeguards the dignity, rights, safety, and privacy of participants. The NRC complies with Governmentwide ethics standards contained in Federal statutes and regulations, which are intended to ensure that every citizen can have confidence in the integrity of the Federal Government.

IV. Specific Request for Comments

The NRC is interested in obtaining feedback from stakeholders on the proposed Evaluation Policy Statement. The focus of this request is to gather information that will permit the NRC staff to develop the final Evaluation Policy Statement. The NRC is particularly interested in comments that address the extent to which the proposed Evaluation Policy Statement will facilitate the agency's review of new and novel technologies and the agency's efforts to improve internal performance.

Dated: December 2, 2020.
For the Nuclear Regulatory Commission.
Annette L. Vietti-Cook,
Secretary of the Commission.

[FR Doc. 2020-26864 Filed 12-7-20; 8:45 am]

BILLING CODE 7590-01-P